DEPARTMENT OF AGRICULTURE

Forest Service

Sierra Nevada Forest Plan Amendment Draft Environmental Impact Statement

AGENCY: Forest Service, USDA.

ACTION: Notice of public meetings related to the Sierra Nevada Forest Plan Amendment Draft Environmental Impact Statement (DEIS). Public meetings will provide information on the document, opportunities for discussion, dialogue and consideration of how the alternatives address the five problem areas, including old forest ecosystems and associated species; aquatic, riparian and meadow ecosystems; fire and fuels management; noxious weeds; and lower westside hardwood ecosystems. Meetings will take place in cities near Sierra Nevada forests, as well as Los Angeles, San Francisco Bay area, and Sacramento. The meeting schedule is attached.

SUMMARY: The Draft EIS to amend Sierra Nevada Forest Plans was released on May 2, 2000 and is open for public comment until August 11, 2000. The Sierra Nevada Framework for Conservation and Collaboration is an effort by the USDA Forest Service to better integrate the latest science and a collaborative approach into national forest management. The EIS will allow the forest service to update forest plans for the 11 national forests in the Sierra Nevada and Modoc Plateau. The Draft EIS proposes 7 action alternatives to address five problem areas.

Requesting Copies of the DEIS and Submitting Comments

The DEIS is available in 4 formats: a printed summary (40 pages); a printed 3-volume set of the full draft EIS, appendices and maps (1500 pages); compact disk (CD); or downloadable at www.r5.fed.us/sncf. To request hardcopies or a CD, write (Subject: SNFP Request): USDA Forest Service—CAET, Sierra Nevada Framework Project, PO Box 7669, 200 E. Broadway, Room 301, Missoula Mt 59807. Email: mailroom_wo_caet@fs.fed.us. Fax: (460) 329-3021.

Review and Comments on the DEIS may be sent to the above address (Subject: SNFP Comments)

FOR FURTHER INFORMATION CONTACT: Please see the USDA Forest Service, World Wide Web site www.r5.fs.fed.us/sncf or contact USDA Forest Service, Sierra Nevada Framework Project, Room 419, 801 I Street, Sacramento, Ca 95814; phone number 916-492-7554; TTY via PacBell relay (800) 735-2929.

The Following Is the Current List of Sierra Nevada Forest Plan Amendment DEIS Public Meetings
[Revised June 12, 2000]
Date | Time | Location | Address | Contact | Meeting Format
June 20, 2000 | 1:30 pm | Madera CA | Madera County Board of Supervisors, 209 W. Yosemite |  | Board of Supervisors.
June 21, 2000 | 7:00-9:00 pm | El Dorado CA | Union Mine High School Cafeteria, 6530 Koki Lane | Contact: Frank Mosbacher (530) 622-5061 | Info/comment.
June 22, 2000 | 6:30-9:00 pm | Oakhurst CA | Oakhurst Community Center Building Road 425B | Contact: Sue Exline (559) 297-0706 | Information.
June 24, 2000 | 9:00 am-1:00 pm | Los Angeles CA | LA River Center, 570 W Ave 26, Ste 100 | Contact: SNFP (916) 492-7554 | Info/comment.
June 24, 2000 | 9:00-11:00 am | Sonora CA | Sonora Oaks Best Western, Hess Ave. and Hwy 108 | Contact: John Maschi, (209) 532-3671 | Information.
June 27, 2000 | 2:00 pm | Fresno CA | Fesno County Board of Supervisors, 2281 Tulare St |  | Board of Supervisors.
June 29, 2000 | 6:30-9:00 pm | Prather CA | Pineridge/Kings River District Office, Hwy 168 | Contact: Sue Exline (559) 297-0706 | Information.
July 10, 2000 | 3:00-9:30 pm | Porterville CA | Veteran's Building 190 W. Olive Ave | Contact: Julie Allen, (559) 784-1500 ext. 1160 | Info/comment.
July 11, 2000 | 5:00-9:00 pm | Chester, CA | Wildwood Center, 366 Meadowbrook Loop | Contact: Carrie Christman (530) 257-2151 | Info/comment.
July 12, 2000 | 6:30-9:00 pm | Alturas CA | USDA Conference Room | Contact: Nancy Gardner (530) 233-8713 | Comment.
July 12, 2000 | 5:00-9:00 pm | Susanville | Lassen Nat'l Forest Supervisor's Office, 2550 Riverside Dr | Carrie Christman (530) 257-2151 | Info/comment.
July 13, 2000 | 5:00-9:00 pm | Fall River Mills CA | Hat Creek Ranger District Conference Room | Carrie Christman (530) 257-2151 | Info/comment.
July 13, 2000 | 5:00-9:30 pm | Lake Isabella CA | Kern River Veteran's Hall/Senior Center 6405 Lake Isabella Blvd | Contact: Julie Allen, (559) 784-1500 ext. 1160 | Info/comment.
July 17, 2000 | 6:30-9:00 pm | Bishop CA | Our Lady of Perpetual Help Catholic Church | Contact: Nancy Upham (760) 873-2427 | Info/comment.
July 24, 2000 | 1:00-3:00 pm | Carson City NV | Library | Contact: Christie Kalkowski (775) 355-5311 | Comment.
July 24, 2000 | 6:00-8:00 pm | Minden NV | Western Nevada Community College | Contact: Christie Kalkowski (775) 355-5311 | Comment.
July 25, 2000 | 6:30-9:00 pm | Mammoth Lakes CA | Community Center | Contact: Nancy Upham (760) 873-2427 | Info/comment.
July 25, 2000 | 6:00-8:00 pm | Markleeville CA | Turtle Rock Co. Park | Contact: Christie Kalkowski (775) 355-5311 | Comment.
July 25, 2000 | 6:30-9:00 pm | Oakhurst CA | Oakhurst Community Center Bulding, Road 425B | Contact: Sue Exline (559) 297-0706 skexline@fs.fed.us | Comment.
July 26, 2000 | 6:30-9:00 pm | Clovis CA | Veterans Memorial Building, 5th and Hughes-Veterans Room | Contact: Sue Exline (559) 297-0706 skexline@fs.fed.us | Comment.
July 26, 2000 | 6:00-8:00 pm | Bridgeport CA | Memorial Hall 100 Sinclair St | Contact: Christie Kalkowski (775) 355-5311 | Info/comment.
July 27, 2000 | 6:00-8:00 pm | Reno NV | McKinley Arts & Cultural Center | Contact: Christie Kalkowski (775) 355-5311 | Comment.
July 27, 2000 | 6:30-9:00 pm | Prather CA | Pineridge/Kings River District Office, Hwy 168 | Contact: Sue Exline (559) 297-0706 | Comment.
July 29, 2000 | 9:00am-1:00 pm | Sacramento CA | Convention Center, 1400 J St | Contact: Gail Wright, (916) 492-7549 | Reporting on public comment.
July TBA |  | San Francisco Bay Area |  |  | Info/comment.

Kent P. Connaughton,
Sierra Nevada Framework Project Director.

[FR Doc. 00-15771 Filed 6-21-00; 8:45 am]

BILLING CODE 3410-11-M